ENVIRONMENTAL PROTECTION AGENCY

40 CFR Part 52

[EPA-R06-OAR-2021-0177; FRL-10024-83-Region 6]

Air Plan Approval; Texas; Clean Air Act Requirements for Emissions Inventories for Nonattainment Areas for the 2015 Ozone National Ambient Air Quality Standards

AGENCY: Environmental Protection Agency (EPA).

ACTION: Final rule.

SUMMARY: The Environmental Protection Agency (EPA) is approving the portions of the State Implementation Plan (SIP) submitted by the State of Texas to meet the Emissions Inventory (EI) requirements of the Federal Clean Air Act (CAA or the Act), for the Dallas-Fort Worth (DFW), Houston-Galveston-Brazoria (HGB), and Bexar County ozone nonattainment areas for the 2015 8-hour ozone national ambient air quality standards (NAAQS). EPA is approving this action pursuant to section 110 and part D of the CAA and EPA's regulations.

DATES: This final rule is effective on July 29, 2021.

ADDRESSES: The EPA has established a docket for this action Docket No. EPA-R06-OAR-2021-0177. All documents in the docket are listed on the https://www.regulations.gov. Although listed in the index, some information is not publicly available, e.g., Confidential Business Information or other information whose disclosure is restricted by statute. Certain other material, such as copyrighted material, is not placed on the internet and will be publicly available only in hard copy form. Publicly available docket materials are available either electronically through https://www.regulations.gov.

FOR FURTHER INFORMATION CONTACT: Nevine Salem, EPA Region 6 Office, Infrastructure and Ozone Section, 214-665-7222, salem.nevine@epa.gov. Out of an abundance of caution for members of the public and our staff, the EPA Region 6 office will be closed to the public to reduce the risk of transmitting COVID-19. Please call or email the contact listed above if you need alternative access to material indexed but not provided in the docket.

SUPPLEMENTARY INFORMATION: Throughout this document wherever “we,” “us,” or “our” is used, we mean the EPA.

I. Background

On March 26, 2021 (86 FR 16171), the EPA published a Notice of Proposed Rulemaking (NPRM) for the State of Texas, for approval of the State's 2017 base year emissions inventories for the DFW, HGB, and the Bexar County marginal ozone nonattainment areas for the 2015 ozone NAAQS. The background for this action and rational for EPA's proposed action are explained in the NPRM and will not be restated here.

II. Response to Comments

We received one anonymous comment that did not raise any substantive issues with the proposed rule. The comment did not explain (or provide any legal basis for) how the proposed action should differ in any way. We determined that the comment is not germane to the final rulemaking and therefore requires no further response. We also noted a typographical error in the NPRM—the numbers in Tables 1, 2 and 3 that summarize the 2017 NOX and VOC emissions inventory in DFW, HGB and Bexar County marginal nonattainment areas, were transposed for the On-road Mobile and Non-road Mobile sources. This correction does not change or affect the total NOX or VOC emissions in the 2017 emission inventory for these marginal nonattainment areas for typical ozone season day emissions. In the interest of good government, we are including the corrected Tables 1, 2 and 3 below. We also note that the original and correct tables were included in the State's SIP revision submittal and are included in the docket for this rule making.¹

¹ A copy of the SIP revision is available online at www.regulations.gov, Docket number EPA-R06-OAR-2021-0177.

Table 1—DFW 2017 Emissions Inventory
[Tons per day]
Source type | NOX | VOC
Point | 29.90 | 21.04
Nonpoint (Area) | 41.82 | 293.62
Non-road Mobile | 74.79 | 31.74
On-road Mobile | 125.13 | 60.56
Total | 271.64 | 406.96

Table 2—HGB 2017 Emissions Inventory
[Tons per day]
Source type | NOX | VOC
Point | 97.31 | 73.34
Nonpoint (Area) | 32.12 | 287.74
Non-road Mobile | 86.34 | 32.29
On-road Mobile | 101.49 | 58.65
Total | 317.26 | 452.02

Table 3—Bexar County 2017 Emissions Inventory
[Tons per day]
Source type | NOX | VOC
Point | 29.88 | 3.56
Nonpoint (Area) | 6.62 | 74.61
Non-road Mobile | 11.42 | 7.09
On-road Mobile | 35.70 | 20.84
Total | 83.62 | 106.10

III. Final Action

EPA is approving the portion of the Texas SIP revisions submitted on June 24, 2020 to address the emissions inventory requirements for the DFW, HGB, and Bexar County nonattainment areas for the 2015 ozone NAAQS.

IV. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Ozone, Reporting and record keeping requirements, Volatile organic compounds.

Authority: 42 U.S.C. 7401 et seq.

Dated: June 22, 2021.
David Gray,
Acting Regional Administrator, Region 6.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart SS—Texas

2. In § 52.2270, the second table in paragraph (e), titled “EPA Approved Nonregulatory Provisions and Quasi-Regulatory Measures in the Texas SIP,” is amended by adding an entry for “2017 Emissions Inventory for the 2015 Ozone NAAQS” at the end of the table to read as follows:

§ 52.2270 Identification of plan.

* * * * *

(e) * * *

EPA Approved Nonregulatory Provisions and Quasi-Regulatory Measures in the Texas SIP
Name of SIP provision | Applicable geographic or nonattainment area | State submittal/ effective date | EPA approval date | Comments
* * * * * * *
2017 Emissions Inventory for the 2015 Ozone NAAQS | Dallas-Fort Worth, Houston Galveston-Brazoria, and Bexar County Ozone Nonattainment Areas | June 24, 2020 | June 29, 2021 [Insert Federal Register citation]

* * * * *

[FR Doc. 2021-13771 Filed 6-28-21; 8:45 am]

BILLING CODE 6560-50-P